DEPARTMENT OF VETERANS AFFAIRS

[OMB Control No. 2900-0736]

Agency Information Collection Activity Under OMB Review: Authorization To Disclose Personal Information to a Third Party

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent by March 30, 2026.

ADDRESSES: To submit comments and recommendations for the proposed information collection, please type the following link into your browser: www.reginfo.gov/public/do/PRAMain, select “Currently under Review—Open for Public Comments”, then search the list for the information collection by Title or “OMB Control No. 2900-0736.”

FOR FURTHER INFORMATION CONTACT: VA PRA information: Dorothy Glasgow, 202-461-1084, VAPRA@va.gov.

SUPPLEMENTARY INFORMATION: Title: Authorization to Disclose Information to a Third Party (VA Form 21-0845).

OMB Control Number: 2900-0736. https://www.reginfo.gov/public/do/PRASearch.

Type of Review: Revision of a currently approved collection.

Abstract: VA Form 21-0845 is used to release information in its custody or control in the following circumstances: where the individual identifies the information and consents to its use; for the purpose for which it was collected, or for a consistent purpose (i.e., a purpose which the individual might have reasonably expected). Without this information, VA cannot share claim information to an individual or organization.

No changes were made to this form. The respondent burden has increased due to the number of receivables averaged over the past year.

An agency may not conduct or sponsor, and a person is not required to respond to a collection of information unless it displays a currently valid OMB control number. The Federal Register Notice with a 60-day comment period soliciting comments on this collection of information was published at insert citation date: 90 FR 58374, December 16, 2025.

Affected Public: Individuals or Households.

Estimated Annual Burden: 12,828 hours.

Estimated Average Burden Per Respondent: 5 minutes.

Frequency of Response: One time.

Estimated Number of Respondents: 153,938 per year.

Authority: 44 U.S.C. 3501 et seq.

Dorothy Glasgow,
Acting, VA PRA Clearance Officer, Office of Information Technology/Data Governance Analytics, Department of Veterans Affairs.

[FR Doc. 2026-03864 Filed 2-25-26; 8:45 am]

BILLING CODE 8320-01-P